PEACE CORPS

Information Collection Request; Submission for OMB Review

AGENCY: Peace Corps.

ACTION: 30-Day notice of request for public comments and submission to OMB for proposed collection of information.

SUMMARY: The Peace Corps is submitting the following information collection request to the Office of Management and Budget (OMB) for review and approval. In accordance with the Paperwork Reduction Act of 1995, we are requesting comments on this collection from all interested individuals and organizations. The purpose of this notice is to allow 30 days for public comment.

DATES: Submit comments on or before January 12, 2023.

ADDRESSES: Address written comments and recommendations for the proposed information collection to Brianna Johnson, Acting FOIA/Privacy Act Officer, by email at pcfr@peacecorps.gov. Email comments must be made in text and not in attachments.

FOR FURTHER INFORMATION CONTACT: Brianna Johnson, Acting FOIA/Privacy Act Officer, at (202) 692-1236, or PCFR@peacecorps.gov.

SUPPLEMENTARY INFORMATION:

Title: Peace Corps Awareness and Affinity: National Survey of U.S. Adults.

OMB Control Number: 0420-****.

Form number: PC-2210.

Type of Request: New collection.

Affected Public: Individuals.

Respondents Obligation to Reply: Voluntary.

Respondents: Members of the public and prospective Peace Corps Volunteer applicants.

Burden to the Public:

• Peace Corps Awareness and Affinity: National Survey of U.S. Adults.

(a) Estimated number of Applicants: 6,200.

(b) Frequency of response: Twice.

(c) Estimated average burden per response: .188 hours.

(d) Estimated total reporting burden: 2333.32 hours.

(e) Estimated annual cost to respondents: 0.00.

General Description of Collection: The Peace Corps experienced unprecedented challenges during the COVID-19 pandemic, including recalling its entire Volunteer workforce in March 2020. The Peace Corps will launch a new national awareness and recruitment campaign as it returns to full service to promote the organization, its mission, goals, and values, and to attract and recruit qualified and diverse Volunteer applicants. The Peace Corps' Office of Communications will use the information collected by the Peace Corps Awareness and Affinity: National Survey of U.S. Adults to help assess the effectiveness of the new campaign. The survey will also collect information to help broaden the pool of potential Volunteers and engage more diverse audiences. This information collection will also be used to gather information and insights to identify key audience segments and help ensure the efficiency and success of future marketing efforts by:

• Identifying levels of awareness, knowledge, attitudes and opinions about the Peace Corps among the general U.S. public and targeted audience segments;

• Collecting insights to inform communications, education, and outreach strategies by understanding which themes resonate most with different audience segments; and,

• Determining the best channels for communication.

The Office of Communications will conduct this survey twice: once to serve as a baseline prior to the launch of its national awareness and recruitment campaign, and once after the campaign has launched to assess campaign impact.

Request for Comment: Peace Corps invites comments on whether the proposed collections of information are necessary for proper performance of the functions of the Peace Corps, including whether the information will have practical use; the accuracy of the agency's estimate of the burden of the proposed collection of information, including the validity of the information to be collected; and, ways to minimize the burden of the collection of information on those who are to respond, including through the use of automated collection techniques, when appropriate, and other forms of information technology.

This notice is issued in Washington, DC, on December 13, 2022.
Brianna Johnson,
Acting FOIA/Privacy Act Officer, Management.

[FR Doc. 2022-27360 Filed 12-15-22; 8:45 am]

BILLING CODE 6051-01-P